DEPARTMENT OF HEALTH AND HUMAN SERVICES

Food and Drug Administration

[Docket No. FDA-2007-F-0330] (formerly Docket No. 2007F-0454)

General Mills, Inc.; Withdrawal of Food Additive Petition

AGENCY: Food and Drug Administration, HHS.

ACTION: Notice.

SUMMARY: The Food and Drug Administration (FDA) is announcing the withdrawal, without prejudice to a future filing, of a food additive petition (FAP 7M4770) proposing that the food additive regulations be amended to provide for the safe use of ultraviolet radiation for the reduction of pathogens and other microorganisms in aqueous sugar solutions and potable water intended for use in food production.

FOR FURTHER INFORMATION CONTACT: Laura A. Dye, Center for Food Safety and Applied Nutrition (HFS-265), Food and Drug Administration, 5100 Paint Branch Pkwy., College Park, MD 20740-3835, 301-436-1275.

SUPPLEMENTARY INFORMATION: In a notice published in the Federal Register of December 3, 2007 (72 FR 67943), FDA announced that a food additive petition (FAP 7M4770) had been filed by General Mills, Inc., One General Mills Blvd., Minneapolis, MN 55426. The petition proposed to amend the food additive regulations in § 179.39 Ultraviolet radiation for the processing and treatment of food (21 CFR 170.39) to provide for the safe use of ultraviolet radiation for the reduction of pathogens and other microorganisms in aqueous sugar solutions and potable water intended for use in food production. General Mills, Inc., has now withdrawn the petition without prejudice to a future filing (21 CFR 171.7).

Dated: May 26, 2010.
Mitchell A. Cheeseman,
Acting Director, Office of Food Additive Safety, Center for Food Safety and Applied Nutrition.

[FR Doc. 2010-13131 Filed 6-1-10; 8:45 am]

BILLING CODE 4160-01-S